ENVIRONMENTAL PROTECTION AGENCY

[OAR-2004-0086; FRL-7838-8]

Agency Information Collection Activities; Submission to OMB for Review and Approval; Comment Request; Reporting and Recordkeeping Requirements for Importation of Nonroad Engines and Recreational Vehicles (Renewal), EPA ICR Number 1723.04, OMB Control Number 2060-0320

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection (EPA ICR Number 1723.03, OMB Control Number 2060-0320) and combine it with the burden of another ICR (EPA ICR Number 1673.04, OMB Control Number 2060-0294) which will no longer be needed. Also included in this request is a new collection burden for the importation of newly regulated engines. EPA ICR 1723.03 is scheduled to expire on November 30, 2004. Under OMB regulations, the Agency may continue to conduct or sponsor the collection of information while this submission is pending at OMB. This ICR describes the nature of the information collection and its estimated burden and cost.

DATES: Additional comments may be submitted on or before January 18, 2005.

ADDRESSES: Submit your comments, referencing docket ID number OAR-2004-0086, to (1) EPA online using EDOCKET (our preferred method), by email to a-and-r-Docket@epa.gov, or by mail to: Environmental Protection Agency, EPA Docket Center (EPA/DC), Air and Radiation Docket and Information Center, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Ms. Lynn Sohacki, Certification and Compliance Division, Vehicle Programs Group, Environmental Protection Agency, 2000 Traverwood Dr., Ann Arbor, MI, 48105; telephone number: (734) 214-4851; fax number: (734) 214-4869; email address: sohacki.lynn@epa.gov.

SUPPLEMENTARY INFORMATION: In this action EPA is renewing ICR OMB Control Number 2060-0320 (EPA ICR Number 1723, originally “Information Requirements for Importation of Nonconforming Marine Engines”) and is combining the burden of that ICR with ICR OMB Control Number 2060-0294 (EPA ICR Number 1673) “Reporting and Recordkeeping Requirements for Importation of Nonconforming Compression Ignition (CI) and Small Spark Ignition (SI) Engines.” The title of the new combined ICR will be Reporting and Recordkeeping Requirements for Importation of Nonroad Engines and Recreational Vehicles. It is appropriate at this time to combine the two ICRs because the line between marine and nonroad engines has become less distinct. Engines that were originally manufactured as nonroad engines may be converted to be used as marine engines and marine engines may be used as nonroad engines. EPA is also adding to this ICR the information collection burden for the importation of newly regulated vehicles and engines: locomotives, marine compression ignition vehicles and engines over 37 kW, recreational vehicles (such as off-highway motorcycles, all-terrain vehicles, and snowmobiles), and large non-road spark ignition engines (such as forklifts and compressors). In light of this, EPA Form 3520-21, which collects information for importation of nonroad engines, is being updated and now will apply to both nonroad and marine engines and recreational vehicles. Therefore, it is appropriate at this time to combine the ICRs under which this information is gathered and add the burden for the newly added engines and recreational vehicles.

EPA ICR Number 1673 was just renewed in February, 2004, but EPA ICR Number 1723 expires on November 30, 2004. In this action we include the burden that was just identified and approved in EPA ICR Number 1673 into the renewal of EPA ICR Number 1723. The new combined burden will be identified in EPA ICR Number 1723 and EPA ICR Number 1673 will no longer be needed.

EPA submitted EPA ICR Number 1723 to OMB for review and approval according to the procedures prescribed in 5 CFR 1320.12. On June 30, 2004 (69 FR 39463), EPA sought comments on this ICR pursuant to 5 CFR 1320.8(d). EPA received one comment. The commenter suggested that no imports of nonconforming marine engines should be allowed. However, the Clean Air Act sets forth specific allowances for importing noncomplying marine engines, provided they satisfy provisions that implement the goals of the Clean Air Act. One purpose of this ICR is to collect the information necessary to help EPA insure that such engines comply with those requirements.

EPA has established a public docket for this ICR under Docket ID No. OAR-2004-0086, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and access those documents in the public docket that are available electronically. Once in the system, select “search,” then key in the docket ID number identified above.

Any comments related to this ICR should be submitted to EPA and OMB within 60 days of this notice. EPA's policy is that public comments, whether submitted electronically or on paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Reporting and Recordkeeping Requirements for Importation of Nonroad Engines and Recreational Vehicles (Renewal)

Abstract: Individuals and businesses importing on and off-road motor vehicles, motor vehicle engines, or nonroad engines, including nonroad engines incorporated into nonroad equipment or nonroad vehicles, report and keep records of vehicle and engine importations, request prior approval for vehicle and engine importations, or request final admission for vehicles and engines conditionally imported into the U.S. The collection of this information is mandatory in order to ensure compliance of nonroad vehicles and engines with Federal emissions requirements. Joint EPA and Customs regulations at 40 CFR 89.601 et seq., 90.601 et seq., 91.703 et seq., 92.803 et seq., 94.803 et seq., 1068.301 et seq., and 19 CFR 12.73 and 12.74 promulgated under the authority of Clean Air Act sections 203 and 208 give authority for the collection of information. This authority was extended to nonroad engines and vehicles under section 213. The information is used by program personnel to ensure that all Federal emission requirements concerning imported motor vehicles and nonroad engines are met.

An agency may not conduct or sponsor, and a person is not required to respond to, a collection of information unless it displays a currently valid OMB control number. The OMB control numbers for EPA's regulations are listed in 40 CFR part 9 and are identified on the form, if applicable.

Burden Statement: The annual public reporting and recordkeeping burden for this collection of information is estimated to average 0.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Individuals and businesses importing nonroad engines, including those incorporated into nonroad equipment or vehicles, and recreational vehicles.

Estimated Number of Respondents: 3000.

Frequency of Response: Other—upon importation.

Estimated Total Annual Hour Burden: 86,136.

Estimated Total Annual Cost: $5,744,175, which includes $0 annualized capital/startup costs, $0 O&M costs, and $5,744,175 annual labor costs.

Changes in the Estimates: There is a net increase of 7,200 hours in the combined burden of EPA ICR Number 1723 and EPA ICR Number 1673 identified in the OMB Inventory of Approved ICR Burdens. This burden is due to the additional burden hours for importers of newly regulated engines and recreational vehicles.

Dated: November 8, 2004.
Oscar Morales,
Director, Collection Strategies Division.

[FR Doc. 04-25619 Filed 11-17-04; 8:45 am]

BILLING CODE 6560-50-P